DEPARTMENT OF THE INTERIOR

Bureau of Indian Affairs

[178 A2100DD/AAKC001030/A0A501010.999900]

Salt River Pima-Maricopa Indian Community; Amendment to Alcoholic Beverage Control Ordinance

AGENCY: Bureau of Indian Affairs, Interior.

ACTION: Notice.

SUMMARY: This notice publishes an amendment to the Salt River Pima-Maricopa Indian Community's Chapter 14, Alcoholic Beverages and Prohibited Substances, which was published in the Federal Register on January 21, 2016 (81 FR 3453).

DATES: This Amendment shall become effective July 21, 2017.

FOR FURTHER INFORMATION CONTACT: Ms. Sharlot Johnson, Tribal Government Services Officer, Western Regional Office, Bureau of Indian Affairs, 2600 North Central Avenue, Phoenix, Arizona 85004, Telephone: (602) 379-6786, Fax: (602) 379-4100.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor control ordinances for the purpose of regulating liquor transactions in Indian country. On February 22, 2017, the Salt River Pima-Maricopa Indian Community Council duly adopted the amendment to the Community's Chapter 14, Alcoholic Beverages and Prohibited Substances, by Ordinance SRO-491-2017.

This notice is published in accordance with the authority delegated by the Secretary of the Interior to the Assistant Secretary—Indian Affairs. 209 DM 81. I certify that the Salt River Pima-Maricopa Indian Community of the Salt River Reservation, Arizona, duly adopted this amendment to the Community's Chapter 14, Alcoholic Beverages and Prohibited Substances, on February 22, 2017.

Dated: May 16, 2017.
Michael S. Black,
Acting Assistant Secretary—Indian Affairs.

Section 14-55 of the Salt River Pima-Maricopa Indian Community Code of Ordinances shall be amended by adding a new subsection (7).

Section 14-55(7)

(7) Sports Stadium/Entertainment Venue.

The director may issue a Sport Stadium/Entertainment Venue license to any professional sports stadium or arena, or an entertainment venue (bowling alley, concert hall, theatre, etc) that is otherwise qualified to hold a license.

The holder of a Sport Stadium/Entertainment Venue license is authorized to sell and serve alcoholic beverages solely for consumption on the licensed premises. For the purposes of this section, the term “licensed premises” includes all public areas of the venue, food service facilities, outdoor patio enclosures, outdoor pool areas, and private banquet or meeting rooms.

[FR Doc. 2017-12975 Filed 6-20-17; 8:45 am]

BILLING CODE 4337-15-P